DEPARTMENT OF COMMERCE

International Trade Administration

[A-331-802]

Certain Frozen Warmwater Shrimp from Ecuador; Partial Rescission of Antidumping Duty Administrative Review

AGENCY: Import Administration, International Trade Administration, Department of Commerce.

EFFECTIVE DATE: August 24, 2007.

FOR FURTHER INFORMATION CONTACT: David Goldberger or Gemal Brangman, AD/CVD Operations, Office 2, Import Administration, International Trade Administration, U.S. Department of Commerce, 14th Street and Constitution Avenue, NW., Washington, DC 20230; telephone: (202) 482-4136 or (202) 482-3773, respectively.

SUPPLEMENTARY INFORMATION:

Background

On February 2, 2007, the Department of Commerce (the Department) published in the Federal Register a notice of opportunity to request an administrative review of the antidumping duty order on certain frozen warmwater shrimp from Ecuador for the period February 1, 2006, through January 31, 2007. See Antidumping or Countervailing Duty Order, Finding, or Suspended Investigation; Opportunity to Request Administrative Review, 72 FR 5007 (February 2, 2007). On February 28, 2007, the petitioner¹ and the Louisiana Shrimp Association (LSA), a domestic interested party, requested an administrative review for numerous Ecuadorean exporters of subject merchandise in accordance with 19 CFR 351.213(b)(2)(1).

¹ The petitioner in this proceeding is the Ad Hoc Shrimp Trade Action Committee.

On March 16, 2007, in accordance with 19 CFR 351.213(d)(1), the petitioner withdrew its request for administrative review of Sociedad Atlantico Pacifico.

On April 6, 2007, the Department initiated an administrative review for 64 companies and requested that each provide data on the quantity and value (Q&V) of its exports of subject merchandise to the United States during the period of review (POR). These companies are listed in the Department's notice of initiation. See Notice of Initiation of Administrative Reviews of the Antidumping Duty Orders on Certain Frozen Warmwater Shrimp from Brazil, Ecuador, India and Thailand, 72 FR 17100 (April 6, 2007).

Between April and June 2007 the Department received Q&V questionnaire responses from certain producers/exporters that indicated that they had no shipments of subject merchandise to the United States during the POR.

On July 5, 2006, in accordance with 19 CFR 351.213(d)(1), the LSA withdrew its requests for review for Doblertel S.A. and Sociedad Atlantico Pacifico.

Partial Rescission of Review

On March 16, 2007, and July 5, 2007, the requests for administrative review of Sociedad Atlantico Pacifico were withdrawn, in accordance with 19 CFR 351.213(d)(1). Section 351.213(d)(1) of the Department's regulations requires that the Secretary rescind an administrative review if a party requesting a review withdraws the request within 90 days of the date of publication of the notice of initiation. Therefore, because the requests for administrative review were timely withdrawn for the company listed above, in accordance with 19 CFR 351.213(d)(1), we are rescinding this review with regard to Sociedad Atlantico Pacifico.

In addition, in accordance with 19 CFR 351.213(d)(3), we are rescinding the review with respect to the following 18 companies because these companies submitted Q&V responses stating that they had no shipments of subject merchandise during the POR: 1) Agricola e Ind Ecuaplantatio; 2) Babychic S.A.; 3) Camarones; 4) Doblertel S.A.; 5) Exportadora Bananera Noboa.; 6) Fortumar Ecuador S.A.; 7) Gambas del Pacifico; 8) Hectorosa; 9) Marisco (El Marisco); 10) Mariscos de Chupadores Chupamar; 11) P.C. Seafood S.A.; 12) Productos Cultivados del Mar Proc.; 13) Soitgar; 14) Studmark, S.A.; 15) Tecnica & Comercio de la Pesa Teco; 16) Transmarina C.A.; 17) Transocean Ecuador; and 18) Unilines Transport System. We reviewed U.S. Customs and Border Protection data and confirmed that there were no entries of subject merchandise from any of these companies. See the Memorandum to The File from David Goldberger entitled, “Department Intent to Rescind Reviews in Part,” dated July 19, 2007 (Intent to Rescind Memo). No party commented on our Intent to Rescind Memo. Consequently, in accordance with 19 CFR 351.213(d)(3) and consistent with our practice, we are rescinding our review with respect to the companies listed above. See e.g., Certain Steel Concrete Reinforcing Bars from Turkey; Final Results and Rescission of Antidumping Duty Administrative Review in Part, 71 FR 65082, 65083 (November 7, 2006).

This notice is published in accordance with section 751 of the Tariff Act of 1930, as amended, and 19 CFR 351.213(d)(4).

Dated: August 17, 2007.
Gary Taverman,
Acting Deputy Assistant Secretary for Import Administration.

[FR Doc. E7-16812 Filed 8-23-07; 8:45 am]

BILLING CODE 3510-DS-S